DEPARTMENT OF LABOR

Employment and Training Administration

[TA-W-54,129A and TA-W-54,129D]

Kemet Electronics Corporation, Simpsonville Facility, Simpsonville, South Carolina; Including Employees of Kemet Electronics Corporation, Simpsonville Facility, Simpsonville, SC, Located in Greenwood, SC; Amended Certification Regarding Eligibility, To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on February 23, 2004, applicable to workers of KEMET Electronics Corporation, Simpsonville Facility, Simpsonville, South Carolina. The notice was published in the Federal Register on April 6, 2004 (69 FR 18111).

At the request of a company official, the Department reviewed the certification for workers of the subject firm. Workers of KEMET's headquarters are included in the certification for workers at the Simpsonville Facility located in Simpsonville, South Carolina. New information provided by the firm shows that Mr. Larry Budreau and Mr. Jimmy Arflin were separated from employment with the firm. They were reporting to headquarters but were working out of Greenwood, South Carolina. They provided support services related to the electronic capacitors produced by the firm.

Based on these findings, the Department is amending this certification to include employees of KEMET Electronics Corporation, Simpsonville Facility, Simpsonville, South Carolina working in Greenwood, South Carolina. Since the workers of the Simpsonville Facility were certified eligible to apply for alternative trade adjustment assistance, the Department is extending this eligibility to Mr. Larry Budreau and Mr. Jimmy Arflin.

The intent of the Department's certification is to include all workers of KEMET Electronics Corporation, Simpsonville Facility, Simpsonville, South Carolina, who were adversely affected by a shift in production to Mexico.

The amended notice applicable to TA-W-54,129A is hereby issued as follows:

All workers of KEMET Electronics Corporation, Simpsonville Facility, Simpsonville, South Carolina (TA-W-54,129A), including employees of KEMET Electronics Corporation, Simpsonville facility, Simpsonville, South Carolina, located in Greenwood, South Carolina (TA-W-54,129D), who became totally or partially separated from employment on or after January 3, 2004, through February 23, 2006, are eligible to apply for adjustment assistance under Section 223 of the Trade Act of 1974, and are also eligible to apply for alternative trade adjustment assistance under Section 246 of the Trade Act of 1974.

Signed in Washington, DC this 31st day of January 2005.
Linda G. Poole,
Certifying Officer, Division of Trade Adjustment Assistance.

[FR Doc. E5-489 Filed 2-7-05; 8:45 am]

BILLING CODE 4510-30-P